DEPARTMENT OF COMMERCE

International Trade Administration

[A-570-815, A-533-806, C-533-807]

Sulfanilic Acid From the People's Republic of China and India: Continuation of Antidumping and Countervailing Duty Orders

AGENCY: Import Administration, International Trade Administration, Department of Commerce.

SUMMARY: As a result of determinations by the Department of Commerce (the “Department”) and the International Trade Commission (the “ITC”) that revocation of the antidumping duty (“AD”) orders on sulfanilic acid from the People's Republic of China (“PRC”) and India would likely lead to continuation or recurrence of dumping, that revocation of the countervailing duty (“CVD”) order on sulfanilic acid from India would likely lead to continuation or recurrence of a countervailable subsidy, and that revocation of these AD and CVD orders would likely lead to a continuation or recurrence of material injury to an industry in the United States, the Department is publishing this notice of continuation of these AD and CVD orders.

DATES: Effective Date: October 25, 2011.

FOR FURTHER INFORMATION CONTACT: Laurel Lacivita or Eugene Degnan (PRC Order), Eric Greynolds (Indian AD/CVD Orders), AD/CVD Operations, Import Administration, International Trade Administration, U.S. Department of Commerce, 14th Street and Constitution Avenue, NW., Washington, DC 20230; telephone: (202) 482-4243, (202) 482-0414, or (202) 482-6071, respectively.

SUPPLEMENTARY INFORMATION: On April 1, 2011, the Department initiated the third sunset review of the AD orders on sulfanilic acid from the PRC and India and the CVD order on sulfanilic acid from India, pursuant to section 751(c) of the Tariff Act of 1930, as amended (“Act”). See Initiation of Five-Year (“Sunset”) Review, 76 FR 18163 (April 1, 2011).

As a result of its review, the Department determined that revocation of the AD orders on sulfanilic acid from the PRC and India would likely lead to a continuation or recurrence of dumping and that revocation of the CVD order on sulfanilic acid from India would likely lead to continuation or recurrence of subsidization and, therefore, notified the ITC of the magnitude of the margins likely to prevail should the orders be revoked. See Sulfanilic Acid From India: Final Results of Expedited Sunset Review of Countervailing Duty Order, 76 FR 33243 (June 8, 2011) and Sulfanilic Acid From India and the People's Republic of China; Final Results of Third Expedited Sunset Reviews of Antidumping Duty Orders, 76 FR 45510 (July 29, 2011).

On October 4, 2011, the ITC determined, pursuant to section 751(c) of the Act, that revocation of the AD orders on sulfanilic acid from the PRC and India and the CVD order on sulfanilic acid from India would likely lead to a continuation or recurrence of material injury to an industry in the United States within a reasonably foreseeable time. See USITC Publication 4270 (October 2011), Sulfanilic Acid From China And India: Investigation Nos. 701-TA-318 and 731-TA-538 and 561 (Third Review) and Sulfanilic Acid From China and India, 76 FR 62843 (October 11, 2011).

Scope of the Orders

The merchandise covered by the AD and CVD orders is all grades of sulfanilic acid, which include technical (or crude) sulfanilic acid, refined (or purified) sulfanilic acid and sodium salt of sulfanilic acid (sodium sulfanilate).

Sulfanilic acid is a synthetic organic chemical produced from the direct sulfonation of aniline with sulfuric acid. Sulfanilic acid is used a raw material in the production of optical brighteners, food colors, specialty dyes, and concrete additive. The principal differences between the grades are the undesirable quantities of residual aniline and alkali insoluble materials present in the sulfanilic acid. All grades are available as dry free flowing powders.

Technical sulfanilic acid contains 96 percent minimum sulfanilic acid, 1.0 percent maximum aniline, and 1.0 percent maximum alkali insoluble materials. Refined sulfanilic acid contains 98 percent minimum sulfanilic acid, 0.5 percent maximum aniline, and 0.25 percent maximum alkali insoluble materials. Sodium salt of sulfanilic acid (sodium sulfanilate) is a granular or crystalline material containing 75 percent minimum sulfanilic acid, 0.5 percent maximum aniline, and 0.25 percent maximum alkali insoluble materials based on the equivalent sulfanilic acid content.¹

¹ In response to a request from 3V Corporation, on May 5, 1999, the Department clarified that sodium sulfanilate processed in Italy from sulfanilic acid produced in India is within the scope of the AD and CVD orders on sulfanilic acid from India. See Notice of Scope Rulings, 65 FR 41957 (July 7, 2000).

The merchandise is currently classifiable under Harmonized Tariff Schedule of the United States (“HTSUS”) subheadings 2921.42.22 and 2921.42.24.90. Although the HTSUS subheadings are provided for convenience and customs purposes, our written description of the scope of the orders is dispositive.

Continuation of the Orders

As a result of these determinations by the Department and the ITC that revocation of the AD and CVD orders on sulfanilic acid would likely lead to a continuation or recurrence of dumping or a countervailable subsidy, and material injury to an industry in the United States, pursuant to section 751(d)(2) of the Act, the Department hereby orders the continuation of the AD orders on sulfanilic acid from the PRC and India and the CVD order on sulfanilic acid from India. U.S. Customs and Border Protection will continue to collect cash deposits at the rates in effect at the time of entry for all imports of subject merchandise. The effective date of the continuation of the orders will be the date of publication in the Federal Register of this notice of continuation. Pursuant to section 751(c)(2) of the Act, the Department intends to initiate the next five-year review of the orders not later than 30 days prior to the fifth anniversary of the effective date of continuation.

These five-year (sunset) reviews and this notice are in accordance with section 751(c) of the Act and published pursuant to section 777(i)(1) of the Act.

Dated: October 20, 2011.
Ronald K. Lorentzen,
Deputy Assistant Secretary for Import Administration.

[FR Doc. 2011-27716 Filed 10-21-11; 4:15 pm]

BILLING CODE 3510-DS-P